DEPARTMENT OF THE INTERIOR

Bureau of Indian Affairs

[189A2100DD/AAKC001030/A0A501010.999900 253G]

Land Acquisitions; the Muscogee (Creek) Nation

AGENCY: Bureau of Indian Affairs, Interior.

ACTION: Notice.

SUMMARY: The Principal Deputy Assistant Secretary—Indian Affairs made a final agency determination to acquire 48.58 acres, more or less, of land near the City of Eufaula, McIntosh County, Oklahoma, (Fountainhead Site) in trust for the Muscogee (Creek) Nation for gaming and other purposes on April 30, 2018.

FOR FURTHER INFORMATION CONTACT: Ms. Paula L. Hart, Director, Office of Indian Gaming, Bureau of Indian Affairs, MS-3657 MIB, 1849 C Street NW, Washington, DC 20240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On April 30, 2018, the Principal Deputy Assistant Secretary—Indian Affairs issued a decision to accept the Fountainhead Site, consisting of approximately 48.58 acres, more or less, of land in trust of the Muscogee (Creek) Nation (Nation), under the authority of the Indian Reorganization Act, 25 U.S.C. 5108. The Principal Deputy Assistant Secretary—Indian Affairs determined that Nation's request also meets the requirements of the Indian Gaming Regulatory Act's “Oklahoma Exception,” 25 U.S.C. 2719(a)(2)(A)(i), to the general prohibition contained in 25 U.S.C. 2719(a) on gaming on lands acquired in trust after October 17, 1988.

The Principal Deputy Assistant Secretary—Indian Affairs, on behalf of the Secretary of the Interior, will immediately acquire title to the Fountainhead Site in the name of the United States of America in trust for the Nation upon fulfillment of Departmental requirements.

The property known as Fountainhead Resort property submitted for gaming-related purposes is comprised of 48.58 acres, located in Section 34, Township 11 North, Range 16 East, McIntosh County, Oklahoma, described as follows:

Beginning 165.00 feet west of the southeast corner of the Southwest Quarter (SW/4) of said Section Thirty-Four (34); THENCE north 00°18′24″ East a distance of 330.00 feet; THENCE north 26°47′33″ east a distance of 369.96 feet; THENCE north 00°18′24″ east a distance of 134.27 feet; THENCE north 46°48′06″ west a distance of 18.21 feet; THENCE north 59°50′42″ west a distance of 150.63 feet; THENCE north 67°23′20″ west a distance of 182.12 feet; THENCE north 57°54′16″ west a distance of 507.87 feet; THENCE north 12°52′25″ west a distance of 140.35 feet; THENCE north 33°20′21″ east a distance of 160.30 feet; THENCE north 16°20′06″ east a distance of 507.62 feet; THENCE south 89°56′04″ west a distance of 444.33 feet; THENCE south 00°16′36″ west a distance of 165.09 feet; THENCE south 22°01′53″ west a distance of 891.23 feet; THENCE south 89°55′24″ west a distance of 330.52 feet; THENCE south 26°49′23″ west a distance of 370.00 feet; THENCE south 00°15′06″ west 330.26 feet; THENCE south 26°23′58″ east a distance of 368.42 feet to the South Line of said Section 34; THENCE north 89°54′44″ east 1487.60 feet to the point of beginning.

Dated: April 30, 2018.
John Tahsuda,
Principal Deputy Assistant Secretary—Indian Affairs, Exercising the Authority of the Assistant Secretary—Indian Affairs.

[FR Doc. 2018-09919 Filed 5-9-18; 8:45 am]

BILLING CODE 4337-15-P